DEPARTMENT OF THE INTERIOR

National Park Service

[NPS-AKRO-CAKR-KOVA-GAAR-22948; PPAKAKROR4;PPMPRLE1Y.LS0000]

Notice of Open Public Meetings for the National Park Service Alaska Region Subsistence Resource Commission Program

AGENCY: National Park Service, Interior.

ACTION: Meeting notice.

SUMMARY: The National Park Service (NPS) is hereby giving notice that the Cape Krusenstern National Monument Subsistence Resource Commission (SRC), the Kobuk Valley National Park SRC, and the Gates of the Arctic National Park SRC will hold public meetings to develop and continue work on NPS subsistence program recommendations, and other related regulatory proposals and resource management issues.

DATES: The Cape Krusenstern National Monument SRC will meet from 1:00 p.m. to 5:00 p.m. or until business is completed on Tuesday, March 28, 2017, and from 9:00 a.m. to 12:00 p.m. on Wednesday, March 29, 2017, at the Northwest Arctic Heritage Center in Kotzebue, AK. For more detailed information regarding this meeting or if you are interested in applying for SRC membership, contact Designated Federal Official Maija Lukin, Superintendent, at (907) 442-8301, or via email at maija_lukin@nps.gov or Hannah Atkinson, Cultural Resource Specialist at the Cape Krusenstern National Monument office at (907) 442-4342, or via email at hannah_atkinson@nps.gov, or Clarence Summers, Subsistence Manager, at (907) 644-3603 or via email at clarence_summers@nps.gov.

The Kobuk Valley National Park SRC will meet from 1:00 p.m. to 5:00 p.m. or until business is completed on Thursday, March 30, 2017, and from 9:00 a.m. to 12:00 p.m. on Friday, March 31, 2017, at the Northwest Arctic Heritage Center in Kotzebue, AK. For more detailed information regarding this meeting or if you are interested in applying for SRC membership, contact Designated Federal Official Maija Lukin, Superintendent, at (907) 442-8301, or via email at maija_lukin@nps.gov or Hannah Atkinson, Cultural Resource Specialist at the Kobuk Valley National Park office at (907) 442-8342, or via email at hannah_atkinson@nps.gov, or Clarence Summers, Subsistence Manager, at (907) 644-3603 or via email at clarence_summers@nps.gov.

The Gates of the Arctic National Park SRC will meet from 9:00 a.m. to 5:00 p.m. or until business is completed on Thursday, April 13, 2017, at the Wiseman Community Center in Wiseman, AK. For more detailed information regarding this meeting, or if you are interested in applying for SRC membership, contact Designated Federal Official Greg Dudgeon, Superintendent, at (907) 457-5752, or via email at greg_dudgeon@nps.gov or Marcy Okada, Subsistence Coordinator, at (907) 455-0639 or via email at marcy_okada@nps.gov or Clarence Summers, Subsistence Manager, at (907) 644-3603, or via email at clarence_summers@nps.gov.

ADDRESSES: The Cape Krusenstern National Monument SRC and the Kobuk Valley National Park SRC will meet at the Northwest Arctic Heritage Center, 171 3rd Avenue, Kotzebue, AK 99752. The Gates of the Arctic National Park SRC will meet at the Wiseman Community Center in Wiseman, AK.

SUPPLEMENTARY INFORMATION: The NPS is holding the meeting pursuant to the Federal Advisory Committee Act (16 U.S.C. Appendix 1-16). The NPS SRC program is authorized under section 808 of the Alaska National Interest Lands Conservation Act (16 U.S.C 3118), title VIII.

SRC meetings are open to the public and will have time allocated for public testimony. The public is welcome to present written or oral comments to the SRC. SRC meetings will be recorded and meeting minutes will be available upon request from the Superintendent for public inspection approximately six weeks after the meeting. Before including your address, phone number, email address, or other personal identifying information in your comment, you should be aware that your entire comment—including your personal identifying information—may be made publicly available at any time. While you may ask us in your comment to withhold your personal identifying information from public review, we cannot guarantee that we will be able to do so.

PROPOSED MEETING AGENDA: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Reports

a. Ranger Update

b. Resource Manager's Report

c. Subsistence Manager's Report

14. Public and Other Agency Comments

15. Work Session

16. Set Tentative Date and Location for Next SRC Meeting

17. Adjourn Meeting

SRC meeting location and date may change based on inclement weather or exceptional circumstances. If the meeting date and location are changed, the Superintendent will issue a press release and use local newspapers and radio stations to announce the rescheduled meeting. The scheduled alternative meeting dates for the Cape Krusenstern National Monument SRC meeting are Tuesday, April 11, 2017, from 1:00 p.m. to 5:00 p.m. and Wednesday, April 12, 2017, from 9:00 a.m. to 12:00 p.m. The scheduled alternative meeting dates for the Kobuk Valley National Park SRC are Thursday, April 13, 2017, from 1:00 p.m. to 5:00 p.m., and Friday, April 14, 2017, from 9:00 a.m. to 12:00 p.m.

Alma Ripps,
Chief, Office of Policy.

[FR Doc. 2017-05264 Filed 3-15-17; 8:45 am]

BILLING CODE 4312-52-P